DEPARTMENT OF COMMERCE

National Oceanic and Atmospheric Administration

Proposed Monterey Bay Regional Water Project Desalination Facility; Intent To Prepare a Draft Environmental Impact Statement; Scoping Meeting

AGENCY: Office of National Marine Sanctuaries (ONMS), National Ocean Service (NOS), National Oceanic and Atmospheric Administration (NOAA).

ACTION: Notice of intent to prepare environmental impact statement; Scoping meeting.

SUMMARY: An application for permit approval has been submitted by DeepWater Desal, LLC to the Monterey Bay National Marine Sanctuary (MBNMS) and California State Lands Commission (CSLC) to construct and operate a seawater reverse osmosis (SWRO) desalination facility and co-located seawater-cooled 150-megawatt computer data center campus project (Project) at Moss Landing, Monterey County, California. The permit review process will be conducted concurrently with a public process conducted pursuant to the National Environmental Policy Act (NEPA; 42 U.S.C. 4321 et seq.), and the California Environmental Quality Act (CEQA). NOAA is soliciting information and comments on the range and significance of issues related to the Project proposed within MBNMS boundaries.

DATES: Comments must be received by July 1, 2015. A public meeting will be held as detailed below:

Date: Tuesday, June 16, 2015.

Location: Moss Landing Marine Laboratories (MLML), Main Building Conference Room.

Address: 8272 Moss Landing Road, Moss Landing, CA 95039.

Times: sessions begin at 2:00 p.m. and at 6:00 p.m.

ADDRESSES: Comments may be submitted by either of the following methods:

• Electronic Submissions: Submit all electronic public comments via the Federal e-Rulemaking Portal. Go to www.regulations.gov/#!docketDetail;D= NOAA-NOS-2015-0069, click the “Comment Now!” icon, complete the required fields and enter or attach your comments.

• Mail: MBNMS Desalination Project Lead, 99 Pacific Ave, BLDG 455a, Monterey, CA 93940

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. ONMS will accept anonymous comments (enter “N/A” in the required fields if you wish to remain anonymous).

FOR FURTHER INFORMATION CONTACT: Bridget Hoover at 99 Pacific Ave, BLDG 455a, Monterey, CA 93940 or mbnms.comments@noaa.gov.

SUPPLEMENTARY INFORMATION:

Background Information

I. Background

An application for permit approval has been submitted by DeepWater Desal, LLC to construct and operate a seawater reverse osmosis (SWRO) desalination facility capable of producing 25,000 acre-feet per year (AFY) of potable water and a co-located seawater-cooled computer data center campus on a 110-acre site located approximately 1.5 miles east of Moss Landing. Seawater intake and brine discharge pipelines would extend west from Moss Landing Harbor to the upper reaches of the submarine Monterey Canyon and the north shelf, respectively, Monterey Bay National Marine Sanctuary (MBNMS).

II. Need for action

This notice of intent (NOI) to prepare a draft environmental impact statement and conduct scoping is published in accordance with: the California Environmental Quality Act (CEQA); California Public Resources Code section 21080.4, subdivision (a); State CEQA Guidelines section 15082; section 102(2)(C) of the National Environmental Policy Act (NEPA) of 1969, as amended; and the White House Council on Environmental Quality Regulations for Implementing the Procedural Provisions of NEPA (CEQ NEPA Regulations).

The California State Lands Commission (CSLC) and MBNMS, as CEQA and NEPA lead agencies respectively, will prepare a joint Environmental Impact Report/Environmental Impact Statement (EIR/EIS) to identify and assess potential environmental impacts associated with the proposed DeepWater Desal, LLC Monterey Bay Regional Water Project (Project). Agencies would use the EIR/EIS to consider related permits or other approvals for the Project as proposed. Possible alternatives could include not approving the Project or approving the Project with additional modifications identified as part of the terms and conditions of a permit or other approval.

Publication of this notice initiates the public scoping process to solicit public and agency comment, in writing or at the public meeting, regarding the full spectrum of environmental issues and concerns relating to the scope and content of the EIR/EIS, including:

• Analyses of the human and marine resources that could be affected;

• the nature and extent of the potential significant impacts on those resources;

• a reasonable range of alternatives to the proposed action; and

• mitigation measures.

III. Process

This NOI is published in conjunction with the CSLC NOI, as this is a joint process between NOAA/MBNMS, the lead federal agency, and the CSLC, the lead state agency. The two agencies will prepare a joint Environmental Impact Report/Environmental Impact Statement (EIR/EIS), and will hold a joint public scoping meeting for the project on Tuesday, June 16, 2015; Sessions begin at 2:00 pm and 6:00 pm, at Moss Landing Marine Laboratories at 8272 Moss Landing Road, CA 95039.

IV. Federal Consultations

This notice also advises the public that NOAA will coordinate its consultation responsibilities under section 7 of the Endangered Species Act (ESA), Essential Fish Habitat (EFH) under the Magnuson Stevens Fishery Conservation and Management Act (MSA), section 106 of the National Historic Preservation Act (NHPA, 16 U.S.C. 470), and Federal Consistency review under the Coastal Zone Management Act (CZMA), along with its ongoing NEPA process including the use of NEPA documents and public and stakeholder meetings to also meet the requirements of other federal laws.

In fulfilling its consultation responsibility under the ESA, MSA, NHPA, CZMA and NEPA, NOAA intends to identify consulting parties and involve the public in accordance with NOAA's NEPA procedures, and develop in consultation with identified consulting parties alternatives and proposed measures that might avoid, minimize or mitigate any adverse effects on endangered species, essential fish habitat, historic properties, or coastal zone management issues, and describe them in any environmental assessment or draft environmental impact statement.

Authority: 16 U.S.C. 1431 et seq.

Dated: May 21, 2015.
John Armor,
Acting Director for the Office of National Marine Sanctuaries.

[FR Doc. 2015-12877 Filed 5-29-15; 8:45 am]

BILLING CODE 3510-NK-P